DEPARTMENT OF AGRICULTURE

Public Availability of FY 2020 Service Contract Inventory

AGENCY: Office of Contracting and Procurement, Departmental Administration, Office of the Secretary, Department of Agriculture.

ACTION: Notice of public availability FY 2020 Service Contract Inventories.

SUMMARY: In accordance with Division C of the Consolidated Appropriations Act of 2010, the Department of Agriculture is publishing this notice to advise the public of access to the FY 2019 Service Contract Inventory. This inventory provides information on FY 2020 Service Contract actions with a dollar value over $25,000. The information is organized by function to show how contracted resources are distributed throughout the agency. The inventory was developed in accordance with guidance issued on September 7, 2018, by the Office of Management and Budget (OMB), Office of Federal Procurement Policy (OFPP). The Department of Agriculture has posted its inventory at the Office of Contracting and Procurement homepage. The 2020 inventory is accessible at the following link: Service Contract Inventories | USDA.

FOR FURTHER INFORMATION CONTACT: Contact Curt Brown, Office of Contracting & Procurement, at (202) 309-0929, or Curt.Brown@usda.gov with questions, comments, or additional information request.

Signed in Washington, DC.
Tiffany Taylor,
Director, Office of Contracting & Procurement.

[FR Doc. 2022-19173 Filed 9-2-22; 8:45 am]

BILLING CODE 3410-T-P